DEPARTMENT OF COMMERCE

National Oceanic and Atmospheric Administration

50 CFR Parts 223 and 224

[Docket No. 050304058-5058-01; I.D. No. 060204C]

RIN 0648-XB29

Endangered and Threatened Wildlife and Plants; 12-Month Finding on a Petition To List Elkhorn Coral, Staghorn coral, and Fused-staghorn coral as Threatened or Endangered

AGENCY: National Marine Fisheries Service (NMFS), National Oceanic and Atmospheric Administration (NOAA), Commerce.

ACTION: Notice of petition finding and availability of a status review document.

SUMMARY: NMFS announces a 12-month finding on a petition to add the elkhorn coral (Acropora palmata), staghorn coral (A. cervicornis), and fused-staghorn coral (A. prolifera), throughout their known range, to the list of threatened and endangered wildlife and to designate critical habitat under the Endangered Species Act (ESA). Based on a review of the best available scientific and commercial information on the status of the species, NMFS finds that the petitioned action is warranted with respect to elkhorn and staghorn corals and will promptly publish a proposed rule to list these two species as threatened. Furthermore, NMFS concludes that listing fused-staghorn coral is not warranted as it is a hybrid and does not constitute a species.

DATES: The finding announced in this document was made on March 3, 2005.

ADDRESSES: Copies of the Atlantic Acropora status review document are available upon request from the Protected Resources Division, NMFS, 9721 Executive Center Drive North, St. Petersburg, FL 33702. After March 17, 2005, please direct requests to our new address: 263 13th Ave. South, St. Peterburg, FL 33701. The status review is also available on the NMFS website at http://sero.nmfs.noaa.gov/pr/protres.htm.

FOR FURTHER INFORMATION CONTACT: Ms. Jennifer Moore or Dr. Stephania Bolden, NMFS Southeast Region, 727-570-5312, or Ms. Marta Nammack, HQ Office of Protected Resources, 301-713-1401, ext. 180. Please note the NMFS Southeast Regional Office is moving March 17, 2005 and after March 21, 2005, the new telephone exchange will be 727-824-5312.

SUPPLEMENTARY INFORMATION: Pursuant to section 4(b)(3)(B) of the ESA (16 U.S.C. 1531 et seq.), for any petition to revise the List of Endangered or Threatened Wildlife and Plants which presents substantial scientific and commercial information, NMFS is required to make a finding within 12 months of the date of receipt of the petition on whether the petitioned action is (a) not warranted, (b) warranted, or (c) warranted but precluded from immediate proposal by other pending proposals of higher priority.

On March 4, 2004, the Center for Biological Diversity (CBD) petitioned NMFS to list elkhorn (Acropora palmata), staghorn (A. cervicornis), and fused-staghorn (A. prolifera) coral as either threatened or endangered under the Endangered Species Act (ESA) and to designate critical habitat. On June 23, 2004, NMFS made a positive 90-day finding (69 FR 34995) that the CBD presented substantial information indicating that the petitioned actions may be warranted and announced the initiation of a formal status review as required by section 4(b)(3)(A) of the ESA.

In order to conduct a comprehensive review, NMFS convened an Atlantic Acropora Biological Review Team (BRT) to conduct the status review, which incorporates and summarizes the best available scientific and commercial data to date. It addresses the status of the species, the five ESA listing factors, and current regulatory, conservation and research efforts that may yield protection. The BRT also reviewed and considered materials received by NMFS as a result of a Federal Register notice and public meetings; substantive materials were incorporated into the status review. Copies of the status review are available upon request from the Protected Resources Division, NMFS (see ADDRESSES). NMFS finds that with respect to elkhorn and staghorn corals, the petitioned action is warranted at this time. NMFS will promptly publish a proposed rule to list these two species as threatened. Furthermore, NMFS concludes that listing fused-staghorn coral is not warranted as it is a hybrid and does not constitute a species.

According to section 4(b)(3(B) of the ESA, 16 U.S.C. 4(b)(3)(B), when a petitioned action is warranted, a proposed regulation to implement the action shall be promptly published in the Federal Register. NMFS will immediately begin developing a proposed rule to list the two species as threatened to comply with the ESA's requirement to publish the proposed listing rule promptly. NMFS will also begin contacting and coordinating with State/Territory and NOAA resource managers to identify activities that may adversely affect the species and potential take exemptions that should be identified in a 4(d) rule, as necessary to provide for the conservation of these threatened species.

After publication of a proposed rule to list the species and establish protective regulations, regulations at 50 CFR 424.16 specify that NMFS allow for public comments regarding the proposed rule and hold public hearings if requested. Within 1 year of publishing the proposed listing regulation, a final rule to list the species, a notice extending the 1-year period, or a notice withdrawing the proposed listing must be published in the Federal Register.

The ESA requires that a final rule designating critical habitat of an endangered or threatened species shall be, to the maximum extent prudent, published concurrently with the final rule listing the species (ESA 4(a)(3)(A)). If at that time critical habitat is undeterminable, the period may be extended by not more than 1 additional year.

Authority

The authority for this section is the ESA of 1973, as amended (16 U.S.C. 1531 et seq.).

Dated: March 11, 2005.
William T. Hogarth,
Assistant Administrator for Fisheries,National Marine Fisheries Service.

[FR Doc. 05-5346 Filed 3-14-05; 4:33 pm]

BILLING CODE 3510-22-S